DEPARTMENT OF ENERGY

Federal Energy Regulatory Commission

Combined Notice of Filings #1

Take notice that the Commission received the following exempt wholesale generator filings:

Docket Numbers: EG17-37-000.

Applicants: CP Bloom Wind LLC.

Description: CP Bloom Wind LLC Amended Notice of Self-Certification of Exempt Wholesale Generator Status.

Filed Date: 1/25/17.

Accession Number: 20170125-5167.

Comments Due: 5 p.m. ET 2/15/17.

Take notice that the Commission received the following electric rate filings:

Docket Numbers: ER17-764-000; ER17-765-000; ER17-766-000; ER17-767-000; ER17-768-000; ER17-769-000.

Applicants: Stream Ohio Gas & Electric, LLC, Stream Energy Illinois, LLC, Stream Energy Indiana, LLC, Stream Energy Connecticut, LLC, Stream Energy Delaware, LLC, Stream Energy Massachusetts, LLC.

Description: Supplement to January 10, 2017 Stream Ohio Gas & Electric, LLC, et al. tariff filings.

Filed Date: 1/26/17.

Accession Number: 20170126-5038.

Comments Due: 5 p.m. ET 2/6/17.

Docket Numbers: ER17-802-001.

Applicants: Exelon Generation Company, LLC.

Description: Tariff Amendment: Amended Cost Support and Amended Rate Schedules to be effective 3/1/2017.

Filed Date: 1/25/17.

Accession Number: 20170125-5179.

Comments Due: 5 p.m. ET 2/15/17.

Docket Numbers: ER17-803-001.

Applicants: Handsome Lake Energy, LLC.

Description: Tariff Amendment: Amended Cost Support and Amended Rate Schedules to be effective 3/1/2017.

Filed Date: 1/25/17.

Accession Number: 20170125-5180.

Comments Due: 5 p.m. ET 2/15/17.

Docket Numbers: ER17-853-000.

Applicants: California Independent System Operator Corporation.

Description: § 205(d) Rate Filing: 2017-01-25 CRR Clawback Amendment to be effective 4/1/2017.

Filed Date: 1/25/17.

Accession Number: 20170125-5181.

Comments Due: 5 p.m. ET 2/15/17.

Docket Numbers: ER17-854-000.

Applicants: PJM Interconnection, L.L.C.

Description: § 205(d) Rate Filing: Amendment to SA No. 3753, Queue No. None and ISA No. 3754 Queue No. Y3-036 to be effective 12/31/2013.

Filed Date: 1/26/17.

Accession Number: 20170126-5023.

Comments Due: 5 p.m. ET 2/16/17.

Docket Numbers: ER17-855-000.

Applicants: PJM Interconnection, L.L.C.

Description: Tariff Cancellation: Notice of Cancellation of Original Service Agreement Nos. 4068 and 4069 to be effective 11/30/2016.

Filed Date: 1/26/17.

Accession Number: 20170126-5030.

Comments Due: 5 p.m. ET 2/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2017.
Nathaniel J. Davis, Sr.,
Deputy Secretary.

[FR Doc. 2017-02085 Filed 1-31-17; 8:45 am]

BILLING CODE 6717-01-P